DEPARTMENT OF JUSTICE

[OMB Number 1110-0057]

Agency Information Collection Activities; Proposed eCollection eComments Requested; Extension of a Previously Approved Collection; Uniform Crime Reporting (UCR) Data Collection Instrument Pretesting and Burden Estimation Generic Clearance

AGENCY: Federal Bureau of Investigation, Department of Justice.

ACTION: 60-Day notice.

SUMMARY: The Federal Bureau of Investigation, Criminal Justice Information Services (CJIS) Division Department of Justice (DOJ), will be submitting the following information collection request to the Office of Management and Budget (OMB) for review and approval in accordance with the Paperwork Reduction Act of 1995.

DATES: Comments are encouraged and will be accepted for 60 days until November 27, 2023.

FOR FURTHER INFORMATION CONTACT: If you have additional comments especially on the estimated public burden or associated response time, suggestions, or need a copy of the proposed information collection instrument with instructions or additional information, please contact Edward L. Abraham, Crime and Law Enforcement Statistics Unit Chief, FBI, CJIS Division, Module D-1, 1000 Custer Hollow Road, Clarksburg, West Virginia 26306; telephone number: 304-625-4830 and email: elabraham@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This clearance provides the FBI's UCR Program the ability to conduct pretests which evaluate the validity and reliability of information collection instruments and determine the level of burden state and local agencies have in reporting crime data to the FBI. The PRA only allows for ten or more respondents in the collection of information, such as pretesting activities. This clearance request expands the pretesting sample to 350 people for each of the information collections administered by the UCR Program. Further, the clearance will allow for a brief five-minute cost and burden assessment for the 18,000 law enforcement agencies participating in the UCR Program.

Overview of This Information Collection

1. Type of Information Collection: Extension of a previously approved collection.

2. The Title of the Form/Collection: Uniform Crime Reporting (UCR) Data Collection Instrument Pretesting and Burden Estimation Generic Clearance.

3. The agency form number, if any, and the applicable component of the Department sponsoring the collection: There is no form number. The applicable component within the DOJ is the CJIS Division, FBI.

4. Affected public who will be asked or required to respond, as well as the obligation to respond: Affected Public: State, local and tribal governments, Federal Government. The obligation to respond is voluntary.

5. An estimate of the total number of respondents and the amount of time estimated for an average respondent to respond: UCR Participation Burden Estimation: There are approximately 18,000 law enforcement respondents; calculated estimates indicate five minutes per submission. UCR Form Pretesting: There are approximately 350 respondents; calculated estimates indicate one hour per pretest.

6. An estimate of the total annual burden (in hours) associated with the collection: There are approximately 1,850 hours annual burden associated with this information collection.

7. An estimate of the total annual cost burden associated with the collection, if applicable: $0.

Total Burden Hours
Activity | Number of respondents | Frequency | Total annual responses | Time per response | Total annual burden (hours)
UCR Participation Burden Estimation | 18,000 | 1/annually | 18,000 | 5 min | 1500
UCR Form Pretesting | 350 | 1/annually | 350 | 1 hr | 350
Unduplicated Totals | 18,350 |  | 18,350 |  | 1,850

If additional information is required contact: Darwin Arceo, Department Clearance Officer, United States Department of Justice, Justice Management Division, Policy and Planning Staff, Two Constitution Square, 145 N Street NE, 4W-218, Washington, DC.

Dated: September 21, 2023.
Darwin Arceo,
Department Clearance Officer for PRA, U.S. Department of Justice.

[FR Doc. 2023-21125 Filed 9-27-23; 8:45 am]

BILLING CODE 4410-02-P